DEPARTMENT OF LABOR

Employment and Training Administration

20 CFR Part 655

Office of Workers' Compensation Programs

20 CFR Parts 702, 725, and 726

Office of the Secretary

29 CFR Part 5

41 CFR Part 50-201

Wage and Hour Division

29 CFR Parts 500, 501, 503, 530, 570, 578, 579, 801, 810, and 825

Occupational Safety and Health Administration

29 CFR Part 1903

Mine Safety and Health Administration

30 CFR Part 100

RIN 1290-AA50

Federal Civil Penalties Inflation Adjustment Act Annual Adjustments for 2025

AGENCY: Employment and Training Administration, Office of Workers' Compensation Programs, Office of the Secretary, Wage and Hour Division, Occupational Safety and Health Administration, Employee Benefits Security Administration, and Mine Safety and Health Administration, Department of Labor.

ACTION: Final rule.

SUMMARY: The U.S. Department of Labor (Department) is publishing this final rule to adjust for inflation the civil monetary penalties assessed or enforced by the Department, pursuant to the Federal Civil Penalties Inflation Adjustment Act of 1990 as amended by the Federal Civil Penalties Inflation Adjustment Act Improvements Act of 2015 (Inflation Adjustment Act). The Inflation Adjustment Act requires the Department to annually adjust its civil money penalty levels for inflation no later than January 15 of each year. The Inflation Adjustment Act provides that agencies shall adjust civil monetary penalties notwithstanding section 553 of the Administrative Procedure Act (APA). Additionally, the Inflation Adjustment Act provides a cost-of-living formula for adjustment of the civil penalties. Accordingly, this final rule sets forth the Department's 2025 annual adjustments for inflation to its civil monetary penalties.

DATES: This final rule is effective on January 15, 2025. As provided by the Inflation Adjustment Act, the increased penalty levels apply to any penalties assessed after January 15, 2025.

FOR FURTHER INFORMATION CONTACT: Erin FitzGerald, Senior Policy Advisor, U.S. Department of Labor, Room S-2312, 200 Constitution Avenue NW, Washington, DC 20210; telephone: (202) 693-5076 (this is not a toll-free number). Copies of this final rule may be obtained in alternative formats (large print, Braille, audio tape or disc), upon request, by calling (202) 693-5959 (this is not a toll-free number). TTY/TDD callers may dial toll-free 1-877-889-5627 to obtain information or request materials in alternative formats.

SUPPLEMENTARY INFORMATION:

Preamble Table of Contents

I. Background

II. Adjustment for 2025

III. Paperwork Reduction Act

IV. Administrative Procedure Act

V. Executive Order 12866: Regulatory Planning and Review and Executive Order 13563: Improving Regulation and Regulatory Review

VI. Regulatory Flexibility Act and Small Business Regulatory Enforcement Fairness Act

VII. Other Regulatory Considerations

A. The Unfunded Mandates Reform Act of 1995

B. Executive Order 13132: Federalism

C. Executive Order 13175: Indian Tribal Governments

D. The Treasury and General Government Appropriations Act of 1999: Assessment of Federal Regulations and Policies on Families

E. Executive Order 13045: Protection of Children From Environmental Health Risks and Safety Risks

F. Environmental Impact Assessment

G. Executive Order 13211: Energy Supply

H. Executive Order 12630: Constitutionally Protected Property Rights

I. Executive Order 12988: Civil Justice Reform Analysis

I. Background

On November 2, 2015, Congress enacted the Federal Civil Penalties Inflation Adjustment Act Improvements Act of 2015, Public Law 114-74, sec. 701 (Inflation Adjustment Act or Act), which further amended the Federal Civil Penalties Inflation Adjustment Act of 1990 as previously amended by the 1996 Debt Collection Improvement Act (collectively, the “Prior Inflation Adjustment Act”), to improve the effectiveness of civil monetary penalties and to maintain their deterrent effect. Under the Inflation Adjustment Act, agencies (1) had to adjust the level of civil monetary penalties with an initial “catch-up” adjustment through an interim final rule (IFR); and (2) must make subsequent annual adjustments for inflation no later than January 15 of each year.

On July 1, 2016, the Department published an IFR that established the initial catch-up adjustment for most civil penalties that the Department administers and requested comments. See 81 FR 43430 (DOL IFR). On January 18, 2017, the Department published the final rule establishing the 2017 Annual Adjustment for those civil monetary penalties adjusted in the DOL IFR. See 82 FR 5373 (DOL 2017 Annual Adjustment). On July 1, 2016, the U.S. Department of Homeland Security (DHS) and the U.S. Department of Labor (DOL) (collectively, “the Departments”) jointly published an IFR that established the initial catch-up adjustment for civil monetary penalties assessed or enforced in connection with the employment of temporary nonimmigrant workers under the H-2B program. See 81 FR 42983 (Joint IFR). On March 17, 2017, the Departments jointly published the final rule establishing the 2017 Annual Adjustment for the H-2B civil monetary penalties. See 82 FR 14147 (Joint 2017 Annual Adjustment). The Joint 2017 Annual Adjustment also explained that DOL would make future adjustments to the H-2B civil monetary penalties consistent with DOL's delegated authority under 8 U.S.C. 1184(c)(14), Immigration and Nationality Act section 214(c)(14), and the Inflation Adjustment Act. See 82 FR 14147-48. Since 2018, the Department's annual Inflation Adjustment Act final rule has included H-2B civil monetary penalties. See 83 FR 7 (DOL 2018 Annual Adjustment); 84 FR 213 (DOL 2019 Annual Adjustment); 85 FR 2292 (DOL 2020 Annual Adjustment); 86 FR 2964 (DOL 2021 Annual Adjustment); 87 FR 2328 (DOL 2022 Annual Adjustment); 88 FR 2210 (DOL 2023 Annual Adjustment); 89 FR 1810 (DOL 2024 Annual Adjustment). The DOL 2022 Annual Adjustment also included the first annual adjustments for a newly enacted civil monetary penalty regarding retention of tips under the Fair Labor Standards Act (FLSA) and a newly established civil monetary penalty regarding whistleblower protections under the high-wage components of the labor value content requirements of the United States-Mexico-Canada Agreement Implementation Act (USMCA). See 87 FR 2328.

This rule implements the 2025 annual inflation adjustments, as required by the Inflation Adjustment Act, for civil monetary penalties assessed or enforced by the Department. The Inflation Adjustment Act provides that the increased penalty levels apply to any penalties assessed after the effective date of the increase. Pursuant to the Inflation Adjustment Act, this final rule is published notwithstanding section 553 of the APA.

This rule is not significant under Executive Order 12866.

Pursuant to the Congressional Review Act (5 U.S.C. 801 et seq.), the Office of Information and Regulatory Affairs designated this rule as not a “major rule”, as defined by 5 U.S.C. 804(2).

II. Adjustment for 2025

A. The Department has undertaken a thorough review of civil penalties administered by its various components and is adjusting each penalty subject to the Inflation Adjustment Act in accordance with the Act and guidance issued by the Office of Management and Budget (OMB).¹

¹ M-25-02, Implementation of Penalty Inflation Adjustments for 2025, Pursuant to the Federal Civil Penalties Inflation Adjustment Act Improvements Act of 2015 (Dec. 17, 2024).

The Department first identified the most recent penalty amount, i.e., the penalty amount established by the 2024 annual adjustment as set forth in the DOL 2024 Annual Adjustment published on January 11, 2024. See 89 FR 1810. The Department then calculated the annual cost-of-living adjustment in accordance with the Act and OMB guidance by using a multiplier based on the percent change between the October 2024 Consumer Price Index for all Urban Consumers (CPI-U) and the October 2023 CPI-U. This resulted in a cost-of-living adjustment multiplier of 1.02598.² In order to compute the 2025 annual adjustment, the Department multiplied the most recent penalty amount for each applicable penalty by the multiplier, 1.02598, and rounded to the nearest dollar.

² OMB provided the year-over-year multiplier, rounded to 5 decimal points. Id. at 1.

As provided by section 6 of the Inflation Adjustment Act, the increased penalty levels apply to any penalties assessed after the effective date of this rule.³ Accordingly, for penalties assessed after January 15, 2025, including penalties whose associated violations occurred before that date but after the applicable dates listed in the tables below, the higher penalty amounts outlined in this rule will apply. The tables below demonstrate the penalty amounts that apply:

³ Appendix 1 consists of a table that provides ready access to key information about each penalty increase.

Civil Monetary Penalties for Violations of Section 3(m)(2)(B) of the FLSA
[Tips]
Violations occurring | Penalty assessed | Which penalty level applies
After March 23, 2018 | After March 23, 2018 but on or before November 23, 2021 | Consolidated Appropriations Act of 2018 amount.
After March 23, 2018 | After November 23, 2021 but on or before January 15, 2022 | November 23, 2021 level.
After March 23, 2018 | After January 15, 2022 but on or before January 15, 2023 | January 15, 2022 level.
After March 23, 2018 | After January 15, 2023 but on or before January 15, 2024 | January 15, 2023 level.
After March 23, 2018 | After January 15, 2024 but on or before January 15, 2025 | January 15, 2024 level.
After March 23, 2018 | After January 15, 2025 | January 15, 2025 level.

Civil Monetary Penalties for USMCA Violations
Violations occurring | Penalty assessed | Which penalty level applies
After July 1, 2020 | After July 1, 2020 but on or before January 15, 2022 | 2020 USMCA IFR amount.
After July 1, 2020 | After January 15, 2022 but on or before January 15, 2023 | January 15, 2022 level.
After July 1, 2020 | After January 15, 2023 but on or before January 15, 2024 | January 15, 2023 level.
After July 1, 2020 | After January 15, 2024 but on or before January 15, 2025 | January 15, 2024 level.
After July 1, 2020 | After January 15, 2025 | January 15, 2025 level.

Civil Monetary Penalties for the H-2B Temporary Non-Agricultural Worker Program
Violations occurring | Penalty assessed | Which penalty level applies
On or before November 2, 2015 | On or before August 1, 2016 | Pre-August 1, 2016 levels.
On or before November 2, 2015 | After August 1, 2016 | Pre-August 1, 2016 levels.
After November 2, 2015 | After August 1, 2016, but on or before March 17, 2017 | August 1, 2016 levels.
After November 2, 2015 | After March 17, 2017 but on or before January 2, 2018 | March 17, 2017 levels.
After November 2, 2015 | After January 2, 2018 but on or before January 23, 2019 | January 2, 2018 levels.
After November 2, 2015 | After January 23, 2019 but on or before January 15, 2020 | January 23, 2019 levels.
After November 2, 2015 | After January 15, 2020 but on or before January 15, 2021 | January 15, 2020 levels.
After November 2, 2015 | After January 15, 2021 but on or before January 15, 2022 | January 15, 2021 levels.
After November 2, 2015 | After January 15, 2022 but on or before January 15, 2023 | January 15, 2022 levels.
After November 2, 2015 | After January 15, 2023 but on or before January 15, 2024 | January 15, 2023 level.
After November 2, 2015 | After January 15, 2024 but on or before January 15, 2025 | January 15, 2024 level.
After November 2, 2015 | After January 15, 2025 | January 15, 2025 level.

Civil Monetary Penalties for Other DOL Programs
Violations occurring | Penalty assessed | Which penalty level applies
On or before November 2, 2015 | On or before August 1, 2016 | Pre-August 1, 2016 levels.
On or before November 2, 2015 | After August 1, 2016 | Pre-August 1, 2016 levels.
After November 2, 2015 | After August 1, 2016, but on or before January 13, 2017 | August 1, 2016 levels.
After November 2, 2015 | After January 13, 2017 but on or before January 2, 2018 | January 13, 2017 levels.
After November 2, 2015 | After January 2, 2018 but on or before January 23, 2019 | January 2, 2018 levels.
After November 2, 2015 | After January 23, 2019 but on or before January 15, 2020 | January 23, 2019 levels.
After November 2, 2015 | After January 15, 2020 but on or before January 15, 2021 | January 15, 2020 levels.
After November 2, 2015 | After January 15, 2021 but on or before January 15, 2022 | January 15, 2021 levels.
After November 2, 2015 | After January 15, 2022 but on or before January 15, 2023 | January 15, 2022 levels.
After November 2, 2015 | After January 15, 2023 but on or before January 15, 2024 | January 15, 2023 level.
After November 2, 2015 | After January 15, 2024 but on or before January 15, 2025 | January 15, 2024 level.
After November 2, 2015 | After January 15, 2025 | January 15, 2025 level.

B. Employment and Training Administration, 20 CFR part 655, subpart I.

In addition to revising 20 CFR 655.810(b) to reflect adjusted maximum civil money penalty amounts, as described above, the Department is revising 20 CFR 655.810(g) to reflect the enactment of the Federal Civil Penalties Inflation Adjustment Act Improvement Act of 2015 (Pub. L. 114-74) and its requirement that agencies make civil money penalty adjustments annually, as well as to remove information regarding the effective date of increased civil money penalties that was superseded by the Inflation Adjustment Act. These are technical changes to conform the regulation to the requirements of the Inflation Adjustment Act.

III. Paperwork Reduction Act

The Paperwork Reduction Act of 1995 (44 U.S.C. 3507(d)) requires that the Department consider the impact of paperwork and other information collection burdens imposed on the public. The Department has determined that this final rule does not require any collection of information.

IV. Administrative Procedure Act

The Inflation Adjustment Act provides that agencies shall annually adjust civil monetary penalties for inflation notwithstanding section 553 of the APA. Additionally, the Inflation Adjustment Act provides a nondiscretionary cost-of-living formula for annual adjustment of the civil monetary penalties. Finally, the Department finds that good cause exists to dispense with the notice and public comment procedures for the technical correction to its regulation at 20 CFR 655.810(g), as it concludes that such procedures are unnecessary. The revision merely conforms the regulation to the requirements of the Inflation Adjustment Act. The revision does not impose any new regulatory obligations or information collection requirements on employers or affect the rights of workers. Similarly, since this revision is a technical correction that does not change the substance of the Department's regulations, the Department finds that it is unnecessary to delay the effective date of this revision. For these reasons, the requirements in sections 553(b), (c), and (d) of the APA, relating to notice and comment and requiring that a rule be effective 30 days after publication in the Federal Register, are inapplicable.

V. Executive Order 12866: Regulatory Planning and Review and Executive Order 13563: Improving Regulation and Regulatory Review

Executive Order 12866 (as supplemented by E.O. 14094) requires that regulatory agencies assess both the costs and benefits of significant regulatory actions. Under the Executive Order, a “significant regulatory action” is one meeting any of a number of specified conditions, including the following: having an annual effect on the economy of $200 million or more; creating a serious inconsistency or interfering with an action of another agency; materially altering the budgetary impact of entitlements or the rights of entitlement recipients; or raising novel legal or policy issues.

The Department has determined that this final rule is not a “significant” regulatory action and a cost-benefit and economic analysis is not required. This regulation merely adjusts civil monetary penalties in accordance with inflation as required by the Inflation Adjustment Act, and has no impact on disclosure or compliance costs. The benefit provided by the inflationary adjustment to the maximum civil monetary penalties is that of maintaining the incentive for the regulated community to comply with the laws enforced by the Department, and not allowing the incentive to be diminished by inflation.

Executive Order 13563 directs agencies to assess all costs and benefits of available regulatory alternatives and, if regulation is necessary, to select regulatory approaches that maximize net benefits (including potential economic, environmental, public health and safety effects, distributive impacts, and equity). Executive Order 13563 emphasizes the importance of quantifying both costs and benefits, reducing costs, harmonizing rules, and promoting flexibility to minimize burden.

The Inflation Adjustment Act directed the Department to issue the annual adjustments without regard to section 553 of the APA. In that context, Congress has already determined that any possible increase in costs is justified by the overall benefits of such adjustments. This final rule makes only the statutory changes outlined herein; thus there are no alternatives or further analysis required by Executive Order 13563.

VI. Regulatory Flexibility Act and Small Business Regulatory Enforcement Fairness Act

The Regulatory Flexibility Act, 5 U.S.C. 601 et seq. (RFA), imposes certain requirements on Federal agency rules that are subject to the notice and comment requirements of the APA, 5 U.S.C. 553(b). This final rule is exempt from the requirements of the APA because the Inflation Adjustment Act directed the Department to issue the annual adjustments without regard to section 553 of the APA. Therefore, the requirements of the RFA applicable to notices of proposed rulemaking, 5 U.S.C. 603, do not apply to this rule. Accordingly, the Department is not required to either certify that the final rule would not have a significant economic impact on a substantial number of small entities or conduct a regulatory flexibility analysis.

VII. Other Regulatory Considerations

A. The Unfunded Mandates Reform Act of 1995

The Unfunded Mandates Reform Act of 1995, 2 U.S.C. 1531-38, requires Federal agencies to assess the effects of their discretionary regulatory actions. In particular, the Act addresses actions that may result in the expenditure by a state, local, or tribal government, in the aggregate, or by the private sector of $100,000,000 (adjusted for inflation) or more in any one year. This Final Rule will not result in such an expenditure. Therefore, no actions were deemed necessary under the provisions of the Unfunded Mandates Reform Act of 1995.

B. Executive Order 13132: Federalism

Section 18 of the Occupational Safety and Health Act of 1970 (OSH Act) (29 U.S.C. 667) requires Occupational Safety and Health Administration (OSHA)-approved State Plans to have standards and an enforcement program that are at least as effective as Federal OSHA's standards and enforcement program. OSHA-approved State Plans must have maximum and minimum penalty levels that are at least as effective as Federal OSHA's, per section 18(c)(2) of the OSH Act. See also 29 CFR 1902.4(c)(2)(xi); 1902.37(b)(12). State Plans are required to increase their penalties in alignment with OSHA's penalty increases to maintain at least as effective penalty levels.

State Plans are not required to impose monetary penalties on state and local government employers. See 29 CFR 1956.11(c)(2)(x). Six (6) states and one territory have State Plans that cover only state and local government employees: Connecticut, Illinois, Maine, Massachusetts, New Jersey, New York, and the Virgin Islands. Therefore, the requirements to increase the penalty levels do not apply to these State Plans. Twenty-one states and one U.S. territory have State Plans that cover both private sector employees and state and local government employees: Alaska, Arizona, California, Hawaii, Indiana, Iowa, Kentucky, Maryland, Michigan, Minnesota, Nevada, New Mexico, North Carolina, Oregon, Puerto Rico, South Carolina, Tennessee, Utah, Vermont, Virginia, Washington, and Wyoming. They must increase their penalties for private-sector employers.

Other than as listed above, this final rule does not have federalism implications because it does not have substantial direct effects on the states, on the relationship between the national government and the states, or on the distribution of power and responsibilities among the various levels of government. Accordingly, Executive Order 13132, Federalism, requires no further agency action or analysis.

C. Executive Order 13175: Indian Tribal Governments

This final rule does not have “tribal implications” because it does not have substantial direct effects on one or more Indian tribes, on the relationship between the Federal Government and Indian tribes, or on the distribution of power and responsibilities between the Federal Government and Indian tribes. Accordingly, Executive Order 13175, Consultation and Coordination with Indian Tribal Governments, requires no further agency action or analysis.

List of Subjects

20 CFR Part 655

Immigration, Labor, Penalties.

20 CFR Part 702

Administrative practice and procedure, Longshore and harbor workers, Penalties, Reporting and recordkeeping requirements, Workers' compensation.

20 CFR Part 725

Administrative practice and procedure, Black lung benefits, Coal miners, Penalties, Reporting and recordkeeping requirements.

20 CFR Part 726

Administrative practice and procedure, Black lung benefits, Coal miners, Mines, Penalties.

29 CFR Part 5

Administrative practice and procedure, Construction industry, Employee benefit plans, Government contracts, Law enforcement, Minimum wages, Penalties, Reporting and recordkeeping requirements.

29 CFR Part 500

Administrative practice and procedure, Aliens, Housing, Insurance, Intergovernmental relations, Investigations, Migrant labor, Motor vehicle safety, Occupational safety and health, Penalties, Reporting and recordkeeping requirements, Wages, Whistleblowing.

29 CFR Part 501

Administrative practice and procedure, Agriculture, Aliens, Employment, Housing, Housing standards, Immigration, Labor, Migrant labor, Penalties, Transportation, Wages.

29 CFR Part 503

Administrative practice and procedure, Aliens, Employment, Housing, Immigration, Labor, Penalties, Transportation, Wages.

29 CFR Part 530

Administrative practice and procedure, Clothing, Homeworkers, Indians—arts and crafts, Penalties, Reporting and recordkeeping requirements, Surety bonds, Watches and jewelry.

29 CFR Part 570

Child labor, Law enforcement, Penalties.

29 CFR Part 578

Penalties, Wages.

29 CFR Part 579

Child labor, Penalties.

29 CFR Part 801

Administrative practice and procedure, Employment, Lie detector tests, Penalties, Reporting and recordkeeping requirements.

29 CFR Part 810

Labor, Wages, Hours of work, Trade agreement, Motor vehicle, Tariffs, Imports, Whistleblowing.

29 CFR Part 825

Administrative practice and procedure, Airmen, Employee benefit plans, Health, Health insurance, Labor management relations, Maternal and child health, Penalties, Reporting and recordkeeping requirements, Teachers.

29 CFR Part 1903

Intergovernmental relations, Law enforcement, Occupational Safety and Health, Penalties.

30 CFR Part 100

Mine safety and health, Penalties.

41 CFR Part 50-201

Child labor, Government procurement, Minimum wages, Occupational safety and health, Reporting and recordkeeping requirements.

For the reasons set out in the preamble, 20 CFR chapters VI and VII, 29 CFR subtitle A and chapters V, XVII, and XXV, 30 CFR chapter I, and 41 CFR chapter 50 are amended as follows.

Department of Labor

Employment and Training Administration

Title 20—Employees' Benefits

PART 655—TEMPORARY EMPLOYMENT OF FOREIGN WORKERS IN THE UNITED STATES

1. The authority citation for part 655 continues to read as follows:

Authority: Section 655.0 issued under 8 U.S.C. 1101(a)(15)(E)(iii), 1101(a)(15)(H)(i) and (ii), 8 U.S.C. 1103(a)(6), 1182(m), (n), and (t), 1184(c), (g), and (j), 1188, and 1288(c) and (d); sec. 3(c)(1), Pub. L. 101-238, 103 Stat. 2099, 2102 (8 U.S.C. 1182 note); sec. 221(a), Pub. L. 101-649, 104 Stat. 4978, 5027 (8 U.S.C. 1184 note); sec. 303(a)(8), Pub. L. 102-232, 105 Stat. 1733, 1748 (8 U.S.C. 1101 note); sec. 323(c), Pub. L. 103-206, 107 Stat. 2428; sec. 412(e), Pub. L. 105-277, 112 Stat. 2681 (8 U.S.C. 1182 note); sec. 2(d), Pub. L. 106-95, 113 Stat. 1312, 1316 (8 U.S.C. 1182 note); 29 U.S.C. 49k; Pub. L. 107-296, 116 Stat. 2135, as amended; Pub. L. 109-423, 120 Stat. 2900; 8 CFR 214.2(h)(4)(i); and 8 CFR 214.2(h)(6)(iii); and sec. 6, Pub. L. 115-128, 132 Stat. 1547 (48 U.S.C. 1806).

Subpart A issued under 8 CFR 214.2(h).

Subpart B issued under 8 U.S.C. 1101(a)(15)(H)(ii)(a), 1184(c), and 1188; and 8 CFR 214.2(h).

Subpart E issued under 48 U.S.C. 1806

Subparts F and G issued under 8 U.S.C. 1288(c) and (d); sec. 323(c), Public Law 103-206, 107 Stat. 2428; and 28 U.S.C. 2461 note, Public Law 114-74 at section 701.

Subparts H and I issued under 8 U.S.C. 1101(a)(15)(H)(i)(b) and (b)(1), 1182(n), and (t), and 1184(g) and (j); sec. 303(a)(8), Public Law 102-232, 105 Stat. 1733, 1748 (8 U.S.C. 1101 note); sec. 412(e), Public Law 105-277, 112 Stat. 2681; 8 CFR 214.2(h); and 28 U.S.C. 2461 note, Public Law 114-74 at section 701.

Subparts L and M issued under 8 U.S.C. 1101(a)(15)(H)(i)(c) and 1182(m); sec. 2(d), Public Law 106-95, 113 Stat. 1312, 1316 (8 U.S.C. 1182 note); Public Law 109-423, 120 Stat. 2900; and 8 CFR 214.2(h).

§§ 655.620, 655.801, and 655.810 [Amended]

2. In the following table, for each section and paragraph indicated in the left column, remove the dollar amount indicated in the middle column from wherever it appears in the paragraph and add in its place the dollar amount indicated in the right column.

Paragraph | Remove | Add
§ 655.620(a) | $11,524 | $11,823
§ 655.801(b) | 9,380 | 9,624
§ 655.810(b)(1) introductory text | 2,304 | 2,364
§ 655.810(b)(2) introductory text | 9,380 | 9,624
§ 655.810(b)(3) introductory text | 65,661 | 67,367

3. Further amend § 655.810 by revising paragraph (g) to read as follows:

§ 655.810 What remedies may be ordered if violations are found?

* * * * *

(g) The Federal Civil Penalties Inflation Adjustment Act of 1990 (Pub. L. 101-410), as amended by the Debt Collection Improvement Act of 1996 (Pub. L. 104-134, section 31001(s)) and the Federal Civil Penalties Inflation Adjustment Act Improvement Act of 2015 (Pub. L. 114-74, section 701), requires that Federal agencies annually adjust their civil money penalties for inflation according to a specified cost-of-living formula.

Office of Workers' Compensation Programs

PART 702—ADMINISTRATION AND PROCEDURE

4. The authority citation for part 702 continues to read as follows:

Authority: 5 U.S.C. 301, and 8171 et seq.; 33 U.S.C. 901 et seq.; 42 U.S.C. 1651 et seq.; 43 U.S.C. 1333; 28 U.S.C. 2461 note (Federal Civil Penalties Inflation Adjustment Act of 1990); Public Law 114-74 at sec. 701; Reorganization Plan No. 6 of 1950, 15 FR 3174, 64 Stat. 1263; Secretary's Order 10-2009, 74 FR 58834.

§§ 702.204, 702.236, and 702.271 [Amended]

5. In the following table, for each section and paragraph indicated in the left column, remove the dollar amount or date indicated in the middle column from wherever it appears in the section or paragraph and add in its place the dollar amount or date indicated in the right column.

Section/paragraph | Remove | Add
§ 702.204 | $29,221 | $29,980.
§ 702.204 | January 15, 2024 | January 15, 2025.
§ 702.236 | $356 | $365.
§ 702.236 | January 15, 2024 | January 15, 2025.
§ 702.271(a)(2) | January 15, 2024 | January 15, 2025.
§ 702.271(a)(2) | $2,922 | $2,998.
§ 702.271(a)(2) | $14,608 | $14,988.

PART 725—CLAIMS FOR BENEFITS UNDER PART C OF TITLE IV OF THE FEDERAL MINE SAFETY AND HEALTH ACT, AS AMENDED

6. The authority citation for part 725 continues to read as follows:

Authority: 5 U.S.C. 301; 28 U.S.C. 2461 note (Federal Civil Penalties Inflation Adjustment Act of 1990); Public Law 114-74 at sec. 701; Reorganization Plan No. 6 of 1950, 15 FR 3174; 30 U.S.C. 901 et seq., 902(f), 921, 932, 936; 33 U.S.C. 901 et seq.; 42 U.S.C. 405; Secretary's Order 10-2009, 74 FR 58834.

§ 725.621 [Amended]

7. In § 725.621, amend paragraph (d) by removing “January 15, 2024” and adding in its place “January 15, 2025” and by removing “$1,780” and adding in its place “$1,826”.

PART 726—BLACK LUNG BENEFITS; REQUIREMENTS FOR COAL MINE OPERATOR'S INSURANCE

8. The authority citation for part 726 continues to read as follows:

Authority: 5 U.S.C. 301; 30 U.S.C. 901 et seq., 902(f), 925, 932, 933, 934, 936; 33 U.S.C. 901 et seq.; 28 U.S.C. 2461 note (Federal Civil Penalties Inflation Adjustment Act of 1990, as amended by the Federal Civil Penalties Inflation Adjustment Act Improvements Act of 2015); Public Law 114-74 at sec. 701; Reorganization Plan No. 6 of 1950, 15 FR 3174; Secretary's Order 10-2009, 74 FR 58834.

9. In § 726.302:

a. In paragraph (c)(2)(i) introductory text, remove “January 15, 2024” and add “January 15, 2025” in its place;

b. Revise the table 1 to paragraph (c)(2)(i); and

c. In the following table, for each paragraph indicated in the left column, remove the dollar amount or date indicated in the middle column from wherever it appears in the paragraph and add in its place the dollar amount or date indicated in the right column.

Paragraph | Remove | Add
(c)(4) | January 15, 2024 | January 15, 2025.
(c)(4) | $174 | $179.
(c)(5) | January 15, 2024 | January 15, 2025.
(c)(5) | $520 | $534.
(c)(6) | January 15, 2024 | January 15, 2025.
(c)(6) | $3,558 | $3,650.

The revision reads as follows:

§ 726.302 Determination of penalty.

* * * * *

(c) * * *

(2) * * *

(i) * * *

Table 1 to Paragraph (c)(2)(i)
Employees | Penalty (per day)
Less than 25 | $179
25-50 | 355
51-100 | 534
More than 100 | 710

* * * * *

Department of Labor

Title 29—Labor

PART 5—LABOR STANDARDS PROVISIONS APPLICABLE TO CONTRACTS COVERING FEDERALLY FINANCED AND ASSISTED CONSTRUCTION (ALSO LABOR STANDARDS PROVISIONS APPLICABLE TO NONCONSTRUCTION CONTRACTS SUBJECT TO THE CONTRACT WORK HOURS AND SAFETY STANDARDS ACT)

10. The authority citation for part 5 continues to read as follows:

Authority: 5 U.S.C. 301; Reorganization Plan No. 14 of 1950, 5 U.S.C. appendix; 28 U.S.C. 2461 note; 40 U.S.C. 3141 et seq.; 40 U.S.C. 3145; 40 U.S.C. 3148; 40 U.S.C. 3701 et seq.; Secretary's Order No. 01-2014, 79 FR 77527 (Dec. 24, 2014); and the laws referenced by § 5.1(a).

§ 5.5 [Amended]

11. In § 5.5, amend paragraph (b)(2) by removing “$32” and adding in its place “$33”.

§ 5.8 [Amended]

12. In § 5.8, amend paragraph (a) by removing “$32” and adding in its place “$33”.

Wage and Hour Division

PART 500—MIGRANT AND SEASONAL AGRICULTURAL WORKER PROTECTION

13. The authority citation for part 500 continues to read as follows:

Authority: Pub. L. 97-470, 96 Stat. 2583 (29 U.S.C. 1801-1872); Secretary's Order No. 01-2014 (Dec. 19, 2014), 79 FR 77527 (Dec. 24, 2014); 28 U.S.C. 2461 note (Federal Civil Penalties Inflation Adjustment Act of 1990); and Pub. L. 114-74, 129 Stat 584.

§ 500.1 [Amended]

14. In § 500.1, amend paragraph (e) by removing “$3,047” and adding in its place “$3,126”.

PART 501—ENFORCEMENT OF CONTRACTUAL OBLIGATIONS FOR TEMPORARY ALIEN AGRICULTURAL WORKERS ADMITTED UNDER SECTION 218 OF THE IMMIGRATION AND NATIONALITY ACT

15. The authority citation for part 501 continues to read as follows:

Authority: 8 U.S.C. 1101(a)(15)(H)(ii)(a), 1184(c), and 1188; 28 U.S.C. 2461 note; and sec. 701, Pub. L. 114-74, 129 Stat. 584.

§ 501.19 [Amended]

16. In the following table, for each paragraph indicated in the left column, remove the dollar amount indicated in the middle column from wherever it appears in the paragraph and add in its place the dollar amount indicated in the right column.

Paragraph | Remove | Add
(c) introductory text | $2,111 | $2,166
(c)(1) | 7,104 | 7,289
(c)(2) | 70,337 | 72,164
(c)(3) | 140,674 | 144,329
(d) | 7,104 | 7,289
(e) | 21,101 | 21,649
(f) | 21,101 | 21,649

PART 503—ENFORCEMENT OF OBLIGATIONS FOR TEMPORARY NONIMMIGRANT NON-AGRICULTURAL WORKERS DESCRIBED IN THE IMMIGRATION AND NATIONALITY ACT

17. The authority citation for part 503 continues to read as follows:

Authority: 8 U.S.C. 1101(a)(15)(H)(ii)(b); 8 U.S.C. 1184; 8 CFR 214.2(h); 28 U.S.C. 2461 note (Federal Civil Penalties Inflation Adjustment Act of 1990); Pub. L. 114-74 at sec. 701.

§ 503.23 [Amended]

18. In the following table, for each paragraph indicated in the left column, remove the dollar amount indicated in the middle column from wherever it appears in the paragraph, and add in its place the dollar amount indicated in the right column:

Paragraph | Remove | Add
(b) | $15,445 | $15,846
(c) | 15,445 | 15,846
(d) | 15,445 | 15,846

PART 530—EMPLOYMENT OF HOMEWORKERS IN CERTAIN INDUSTRIES

19. The authority citation for part 530 continues to read as follows:

Authority: Sec. 11, 52 Stat. 1066 (29 U.S.C. 211) as amended by sec. 9, 63 Stat. 910 (29 U.S.C. 211(d)); Secretary's Order No. 01-2014 (Dec. 19, 2014), 79 FR 77527 (Dec. 24, 2014); 28 U.S.C. 2461 note (Federal Civil Penalties Inflation Adjustment Act of 1990); Public Law 114-74 at sec. 701, 129 Stat 584.

20. In § 530.302:

a. Amend paragraph (a) by removing “$1,280” and adding in its place “$1,313”; and

b. Revise paragraph (b).

The revision reads as follows:

§ 530.302 Amounts of civil penalties.

* * * * *

(b) The amount of civil money penalties shall be determined per affected homeworker within the limits set forth in the following schedule, except that no penalty shall be assessed in the case of violations which are deemed to be de minimis in nature:

Table 1 to Paragraph (b)
Nature of violation | Penalty per affected homeworker: Minor | Penalty per affected homeworker: Substantial | Penalty per affected homeworker: Repeated, intentional or knowing
Recordkeeping | $26-264 | $264-525 | $525-1,313
Monetary violations | 26-264 | 264-525 |
Employment of homeworkers without a certificate |  | 264-525 | 525-1,313
Other violations of statutes, regulations or employer assurances | 26-264 | 264-525 | 525-1,313

PART 570—CHILD LABOR REGULATIONS, ORDERS AND STATEMENTS OF INTERPRETATION

Subpart G—General Statements of Interpretation of the Child Labor Provisions of the Fair Labor Standards Act of 1938, as Amended

21. The authority citation for subpart G of part 570 continues to read as follows:

Authority: 52 Stat. 1060-1069, as amended; 29 U.S.C. 201-219; 28 U.S.C. 2461 note (Federal Civil Penalties Inflation Adjustment Act of 1990); Public Law 114-74 at sec. 701.

§ 570.140 [Amended]

22. In § 570.140, amend paragraph (b)(1) by removing “$15,629” and adding in its place “$16,035” and paragraph (b)(2) by removing “$71,031” and adding in its place “$72,876”.

PART 578—TIP RETENTION, MINIMUM WAGE, AND OVERTIME VIOLATIONS—CIVIL MONEY PENALTIES

23. The authority citation for part 578 continues to read as follows:

Authority: 29 U.S.C. 216(e), as amended by sec. 9, Public Law 101-157, 103 Stat. 938, sec. 3103, Public Law 101-508, 104 Stat. 1388-29, sec. 302(a), Public Law 110-233, 122 Stat. 920, and sec. 1201, Div. S., Tit. XII, Public Law 115-141, 132 Stat. 348; Public Law 101-410, 104 Stat. 890 (28 U.S.C. 2461 note), as amended by sec. 31001(s), Public Law 104-134, 110 Stat. 1321-358, 1321-373, and sec. 701, Public Law 114-74, 129 Stat 584.

§ 578.3 [Amended]

24. In § 578.3, amend paragraph (a)(1) by removing “$1,373” and adding in its place “$1,409” and paragraph (a)(2) by removing “$2,451” and adding in its place “$2,515”.

PART 579—CHILD LABOR VIOLATIONS—CIVIL MONEY PENALTIES

25. The authority citation for part 579 continues to read as follows:

Authority: 29 U.S.C. 203(m), (l), 211, 212, 213(c), 216; Reorg. Plan No. 6 of 1950, 64 Stat. 1263, 5 U.S.C. App; secs. 25, 29, 88 Stat. 72, 76; Secretary of Labor's Order No. 01-2014 (Dec. 19, 2014), 79 FR 77527 (Dec. 24, 2014); 28 U.S.C. 2461 Note.

§ 579.1 [Amended]

26. In the following table, for each paragraph indicated in the left column, remove the dollar amount indicated in the middle column from wherever it appears in the paragraph and add in its place the dollar amount indicated in the right column.

Paragraph | Remove | Add
(a)(1)(i)(A) | $15,629 | $16,035
(a)(1)(i)(B) | 71,031 | 72,876
(a)(2)(i) | 2,451 | 2,515
(a)(2)(ii) | 1,373 | 1,409

PART 801—APPLICATION OF THE EMPLOYEE POLYGRAPH PROTECTION ACT OF 1988

27. The authority citation for part 801 continues to read as follows:

Authority: Pub. L. 100-347, 102 Stat. 646, 29 U.S.C. 2001-2009; 28 U.S.C. 2461 note (Federal Civil Penalties Inflation Adjustment Act of 1990); Pub. L. 114-74 at sec. 701, 129 Stat 584.

§ 801.42 [Amended]

28. In § 801.42, amend paragraph (a) introductory text by removing “$25,597” and adding in its place “$26,262”.

PART 810—HIGH-WAGE COMPONENTS OF THE LABOR VALUE CONTENT REQUIREMENTS UNDER THE UNITED STATES-MEXICO-CANADA AGREEMENT IMPLEMENTATION ACT

29. The authority citation for part 810 continues to read as follows:

Authority: 19 U.S.C. 1508(b)(4) and 19 U.S.C. 4535(b); 28 U.S.C. 2461 note (Federal Civil Penalties Inflation Adjustment Act of 1990); and Pub. L. 114-74 at sec. 701.

§ 810.800 [Amended]

30. In § 810.800, amend paragraph (c)(3)(i) by removing “$59,079” and adding in its place “$60,614”.

PART 825—THE FAMILY AND MEDICAL LEAVE ACT OF 1993

31. The authority citation for part 825 continues to read as follows:

Authority: 29 U.S.C. 2654; 28 U.S.C. 2461 note (Federal Civil Penalties Inflation Adjustment Act of 1990); and Pub. L. 114-74 at sec. 701.

§ 825.300 [Amended]

32. In § 825.300, amend paragraph (a)(1) by removing “$211” and adding in its place “$216”.

Occupational Safety and Health Administration

PART 1903—INSPECTIONS, CITATIONS, AND PROPOSED PENALTIES

33. The authority citation for part 1903 continues to read as follows:

Authority: Secs. 8 and 9 of the Occupational Safety and Health Act of 1970 (29 U.S.C. 657, 658); 5 U.S.C. 553; 28 U.S.C. 2461 note (Federal Civil Penalties Inflation Adjustment Act of 1990), as amended by Section 701, Pub. L. 114-74; Secretary of Labor's Order No. 1-2012 (77 FR 3912, Jan. 25, 2012).

§ 1903.15 [Amended]

34. In the following table, for each paragraph indicated in the left column, remove the dollar amount or date indicated in the middle column from wherever it appears in the paragraph and add in its place the dollar amount or date indicated in the right column.

Paragraph | Remove | Add
(d) introductory text | January 15, 2024 | January 15, 2025.
(d)(1) | $11,524 | $11,823.
(d)(1) | 161,323 | 165,514.
(d)(2) | 161,323 | 165,514.
(d)(3) | 16,131 | 16,550.
(d)(4) | 16,131 | 16,550.
(d)(5) | 16,131 | 16,550.
(d)(6) | 16,131 | 16,550.

Mine Safety and Health Administration

Title 30—Mineral Resources

PART 100—CRITERIA AND PROCEDURES FOR PROPOSED ASSESSMENT OF CIVIL PENALTIES

35. The authority citation for part 100 continues to read as follows:

Authority: 5 U.S.C. 301; 30 U.S.C. 815, 820, 957; 28 U.S.C. 2461 note (Federal Civil Penalties Inflation Adjustment Act of 1990); Pub. L. 114-74 at sec. 701.

36. In § 100.3:

a. Amend paragraph (a)(1) introductory text by removing “$88,354” and adding in its place “$90,649”; and

b. By revising table 14 to paragraph (g).

The revision reads as follows:

§ 100.3 Determination of penalty amount; regular assessment.

* * * * *

(g) * * *

Table 14 to Paragraph (g)—Penalty Conversion Table
Points | Penalty ($)
60 or fewer | $168
61 | 184
62 | 197
63 | 215
64 | 233
65 | 252
66 | 273
67 | 297
68 | 320
69 | 348
70 | 374
71 | 407
72 | 443
73 | 480
74 | 517
75 | 561
76 | 610
77 | 658
78 | 714
79 | 775
80 | 839
81 | 909
82 | 982
83 | 1,066
84 | 1,153
85 | 1,252
86 | 1,355
87 | 1,467
88 | 1,590
89 | 1,723
90 | 1,866
91 | 2,021
92 | 2,187
93 | 2,371
94 | 2,569
95 | 2,782
96 | 3,014
97 | 3,263
98 | 3,538
99 | 3,832
100 | 4,152
101 | 4,497
102 | 4,871
103 | 5,277
104 | 5,716
105 | 6,194
106 | 6,708
107 | 7,267
108 | 7,872
109 | 8,529
110 | 9,239
111 | 10,005
112 | 10,842
113 | 11,744
114 | 12,723
115 | 13,782
116 | 14,929
117 | 16,175
118 | 17,521
119 | 18,981
120 | 20,560
121 | 22,275
122 | 24,126
123 | 26,139
124 | 28,316
125 | 30,670
126 | 33,227
127 | 35,995
128 | 38,992
129 | 42,241
130 | 45,760
131 | 49,571
132 | 53,698
133 | 58,171
134 | 62,812
135 | 67,449
136 | 72,092
137 | 76,728
138 | 81,369
139 | 86,008
140 or more | 90,649

* * * * *

§§ 100.4 and 100.5 [Amended]

37. In the following table, for each section and paragraph indicated in the left column, remove the dollar amount indicated in the middle column from wherever it appears in the paragraph, and add in its place the dollar amount indicated in the right column.

Paragraph | Remove | Add
§ 100.4(a) | $2,945 | $3,022
§ 100.4(b) | 5,888 | 6,041
§ 100.4(c) introductory text | 7,364 | 7,555
§ 100.4(c) introductory text | 88,354 | 90,649
§ 100.5(c) | 9,571 | 9,820
§ 100.5(d) | 404 | 414
§ 100.5(e) | 323,960 | 332,376

Title 41—Public Contracts and Property Management

PART 50-201—GENERAL REGULATIONS

38. The authority citation for part 50-201 continues to read as follows:

Authority: Sec. 4, 49 Stat. 2038; 41 U.S.C. 38. Interpret or apply sec. 6, 49 Stat. 2038, as amended; 41 U.S.C. 40; 108 Stat. 7201; 28 U.S.C. 2461 note (Federal Civil Penalties Inflation Adjustment Act of 1990); Pub. L. 114-74 at sec. 701, 129 Stat 584.

§ 50-201.3 [Amended]

39. In § 50-201.3, amend paragraph (e) by removing “$32” and adding in its place “$33”.

Signed in Washington, DC.
Julie A. Su,
Acting Secretary, U.S. Department of Labor.

Note: The following Appendix will not appear in the Code of Federal Regulations.

Agency | Law | Name/description | CFR citation | 2024: Min penalty (rounded to nearest dollar) | 2024: Max penalty (rounded to nearest dollar) | 2025: Min penalty (rounded to nearest dollar) | 2025: Max penalty (rounded to nearest dollar)
MSHA | Federal Mine Safety & Health Act of 1977 | Regular Assessment | 30 CFR 100.3(a) |  | $88,354 |  | $90,649.
MSHA | Federal Mine Safety & Health Act of 1977 | Penalty Conversion Table | 30 CFR 100.3(g) | $164 | $88,354 | $168 | $90,649.
MSHA | Federal Mine Safety & Health Act of 1977 | Minimum Penalty for any order issued under 104(d)(1) of the Mine Act | 30 CFR 100.4(a) | 2,945 |  | 3,022
MSHA | Federal Mine Safety & Health Act of 1977 | Minimum penalty for any order issued under 104(d)(2) of the Mine Act | 30 CFR 100.4(b) | 5,888 |  | 6,041
MSHA | Federal Mine Safety & Health Act of 1977 | Penalty for failure to provide timely notification under 103(j) of the Mine Act | 30 CFR 100.4(c) | 7,364 | $88,354 | 7,555 | $90,649.
MSHA | Federal Mine Safety & Health Act of 1977 | Any operator who fails to correct a violation for which a citation or order was issued under 104(a) of the Mine Act | 30 CFR 100.5(c) |  | $9,571 |  | $9,820.
MSHA | Federal Mine Safety & Health Act of 1977 | Violation of mandatory safety standards related to smoking standards | 30 CFR 100.5(d) |  | $404 |  | $414.
MSHA | Federal Mine Safety & Health Act of 1977 | Flagrant violations under 110(b)(2) of the Mine Act | 30 CFR 100.5(e) |  | $323,960 |  | $332,376.
EBSA | Employee Retirement Income Security Act | Section 209(b): Per plan year for failure to furnish reports (e.g., pension benefit statements) to certain former employees or maintain employee records each employee a separate violation | 29 CFR 2575.1-3 |  | $37 |  | $38.
EBSA | Employee Retirement Income Security Act | Section 502(c)(2)—Per day for failure/refusal to properly file plan annual report | 29 CFR 2575.1-3 |  | $2,670 |  | $2,739.
EBSA | Employee Retirement Income Security Act | Section 502(c)(4)—Per day for failure to disclose certain documents upon request under Section 101(k) and (l); failure to furnish notices under Sections 101(j) and 514(e)(3)—each statutory recipient a separate violation | 29 CFR 2575.1-3 |  | $2,112 |  | $2,167.
EBSA | Employee Retirement Income Security Act | Section 502(c)(5)—Per day for each failure to file annual report for Multiple Employer Welfare Arrangements (MEWAs) under Section 101(g) | 29 CFR 2575.1-3 |  | $1,942 |  | $1,992.
EBSA | Employee Retirement Income Security Act | Section 502(c)(6)—Per day for each failure to provide Secretary of Labor requested documentation not to exceed a per-request maximum | 29 CFR 2575.1-3 |  | $190 per day, not to exceed $1,906 per request |  | $195 per day, not to exceed $1,956 per request.
EBSA | Employee Retirement Income Security Act | Section 502(c)(7)—Per day for each failure to provide notices of blackout periods and of right to divest employer securities-each statutory recipient a separate violation | 29 CFR 2575.1-3 |  | $169 |  | $173.
EBSA | Employee Retirement Income Security Act | Section 502(c)(8)—Per each failure by an endangered status multiemployer plan to adopt a funding improvement plan or meet benchmarks; or failure of a critical status multiemployer plan to adopt a rehabilitation plan | 29 CFR 2575.1-3 |  | $1,677 |  | $1,721.
EBSA | Employee Retirement Income Security Act | Section 502(c)(9)(A)—Per day for each failure by an employer to inform employees of CHIP coverage opportunities under Section 701(f)(3)(B)(i)(l)—each employee a separate violation | 29 CFR 2575.1-3 |  | $141 |  | $145.
EBSA | Employee Retirement Income Security Act | Section 502(c)(9)(B)—Per day for each failure by a plan to timely provide to any State information required to be disclosed under Section 701(f)(3)(B)(ii), as added by CHIP regarding coverage coordination—each participant/beneficiary a separate violation | 29 CFR 2575.1-3 |  | $141 |  | $145.
EBSA | Employee Retirement Income Security Act | Section 502(c)(10)—Failure by any plan sponsor of group health plan, or any health insurance issuer offering health insurance coverage in connection with the plan, to meet the requirements of Sections 702(a)(1)(F), (b)(3), (c) or (d); or Section 701; or Section 702(b)(1) with respect to genetic information—daily per participant and beneficiary during non-compliance period | 29 CFR 2575.1-3 |  | $141 |  | $145.
EBSA | Employee Retirement Income Security Act | Section 502(c)(10)—uncorrected de minimis violation | 29 CFR 2575.1-3 | 3,550 |  | 3,642
EBSA | Employee Retirement Income Security Act | Section 502(c)(10)—uncorrected violations that are not de minimis | 29 CFR 2575.1-3 | 21,310 |  | 21,864
EBSA | Employee Retirement Income Security Act | Section 502(c)(10)—unintentional failure maximum cap | 29 CFR 2575.1-3 |  | $710,310 |  | $728,764.
EBSA | Employee Retirement Income Security Act | Section 502(c)(12)—Per day for each failure of a CSEC plan in restoration status to adopt a restoration plan | 29 CFR 2575.1-3 |  | $130 |  | $133.
EBSA | Employee Retirement Income Security Act | Section 502(m)—Failure of fiduciary to make a proper distribution from a defined benefit plan under section 206(e) of ERISA | 29 CFR 2575.1-3 |  | $20,579 |  | $21,114.
EBSA | Employee Retirement Income Security Act | Failure to provide Summary of Benefits Coverage under PHS Act section 2715(f), as incorporated in ERISA section 715 and 29 CFR 2590.715-2715(e) | 29 CFR 2575.1-3 |  | $1,406 |  | $1,443.
OSHA | Occupational Safety and Health Act | Serious Violation | 29 CFR 1903.15(d)(3) |  | $16,131 |  | $16,550.
OSHA | Occupational Safety and Health Act | Other-Than-Serious | 29 CFR 1903.15(d)(4) |  | $16,131 |  | $16,550.
OSHA | Occupational Safety and Health Act | Willful | 29 CFR 1903.15(d)(1) | 11,524 | $161,323 | 11,823 | $165,514.
OSHA | Occupational Safety and Health Act | Repeated | 29 CFR 1903.15(d)(2) |  | $161,323 |  | $165,514.
OSHA | Occupational Safety and Health Act | Posting Requirement | 29 CFR 1903.15(d)(6) |  | $16,131 |  | $16,550.
OSHA | Occupational Safety and Health Act | Failure to Abate | 29 CFR 1903.15(d)(5) |  | $16,131 per day |  | $16,550 per day.
WHD | Family and Medical Leave Act | FMLA | 29 CFR 825.300(a)(1) |  | $211 |  | $216.
WHD | Fair Labor Standards Act | FLSA | 29 CFR 578.3(a)(1) |  | $1,373 |  | $1,409.
WHD | Fair Labor Standards Act | FLSA | 29 CFR 578.3(a)(2) |  | $2,451 |  | $2,515.
WHD | Fair Labor Standards Act | Child Labor | 29 CFR 579.1(a)(2)(i) |  | $2,451 |  | $2,515.
WHD | Fair Labor Standards Act | Child Labor | 29 CFR 579.1(a)(2)(ii) |  | $1,373 |  | $1,409.
WHD | Fair Labor Standards Act | Child Labor | 29 CFR 570.140(b)(1) |  | $15,629 |  | $16,035.
WHD | Fair Labor Standards Act | Child Labor | 29 CFR 579.1(a)(1)(i)(A) |  | $15,629 |  | $16,035.
WHD | Fair Labor Standards Act | Child Labor that causes serious injury or death | 29 CFR 570.140(b)(2) |  | $71,031 |  | $72,876.
WHD | Fair Labor Standards Act | Child Labor that causes serious injury or death | 29 CFR 579.1(a)(1)(i)(B) |  | $71,031 |  | $72,876.
WHD | Fair Labor Standards Act | Child Labor willful or repeated that causes serious injury or death (penalty amount doubled) | 29 CFR 570.140(b)(2); 29 CFR 579.1(a)(1)(i)(B) Doubled |  | $142,062 |  | $145,752.
WHD | Migrant and Seasonal Agricultural Worker Protection Act | MSPA | 29 CFR 500.1(e) |  | $3,047 |  | $3,126.
WHD | Immigration & Nationality Act | H1B | 20 CFR 655.810(b)(1) |  | $2,304 |  | $2,364.
WHD | Immigration & Nationality Act | H1B retaliation | 20 CFR 655.801(b) |  | $9,380 |  | $9,624.
WHD | Immigration & Nationality Act | H1B willful or discrimination | 20 CFR 655.810(b)(2) |  | $9,380 |  | $9,624.
WHD | Immigration & Nationality Act | H1B willful that resulted in displacement of a US worker | 20 CFR 655.810(b)(3) |  | $65,661 |  | $67,367.
WHD | Immigration & Nationality Act | D-1 | 20 CFR 655.620(a) |  | $11,524 |  | $11,823.
WHD | Contract Work Hours and Safety Standards Act | CWHSSA | 29 CFR 5.5(b)(2) |  | $32 |  | $33.
WHD | Contract Work Hours and Safety Standards Act | CWHSSA | 29 CFR 5.8(a) |  | $32 |  | $33.
WHD | Walsh-Healey Public Contracts Act | Walsh-Healey | 41 CFR 50-201.3(e) |  | $32 |  | $33.
WHD | Employee Polygraph Protection Act | EPPA | 29 CFR 801.42(a) |  | $25,597 |  | $26,262.
WHD | Immigration & Nationality Act | H2A | 29 CFR 501.19(c) |  | $2,111 |  | $2,166.
WHD | Immigration & Nationality Act | H2A willful or discrimination | 29 CFR 501.19(c)(1) |  | $7,104 |  | $7,289.
WHD | Immigration & Nationality Act | H2A Safety or health resulting in serious injury or death | 29 CFR 501.19(c)(2) |  | $70,337 |  | $72,164.
WHD | Immigration & Nationality Act | H2A willful or repeated safety or health resulting in serious injury or death | 29 CFR 501.19(c)(4) |  | $140,674 |  | $144,329.
WHD | Immigration & Nationality Act | H2A failing to cooperate in an investigation | 29 CFR 501.19(d) |  | $7,104 |  | $7,289.
WHD | Immigration & Nationality Act | H2A displacing a US worker | 29 CFR 501.19(e) |  | $21,101 |  | $21,649.
WHD | Immigration & Nationality Act | H2A improperly rejecting a US worker | 29 CFR 501.19(f) |  | $21,101 |  | $21,649.
WHD | Immigration & Nationality Act | H-2B | 29 CFR 503.23(b) |  | $15,445 |  | $15,846.
WHD | Immigration & Nationality Act | H-2B | 29 CFR 503.23(c) |  | $15,445 |  | $15,846.
WHD | Immigration & Nationality Act | H-2B | 29 CFR 503.23(d) |  | $15,445 |  | $15,846.
WHD | Fair Labor Standards Act | Home Worker | 29 CFR 530.302(a) |  | $1,280 |  | $1,313.
WHD | Fair Labor Standards Act | Home Worker | 29 CFR 530.302(b) | 25 | $1,280 | 26 | $1,313.
WHD | United States-Mexico-Canada Agreement Implementation Act. | Whistleblower | 29 CFR 810.800(c)(3)(i) |  | $59,079 |  | $60,614.
OWCP | Longshore and Harbor Workers' Compensation Act | Failure to file first report of injury or filing a false statement or misrepresentation in first report | 20 CFR 702.204 |  | $29,221 |  | $29,980.
OWCP | Longshore and Harbor Workers' Compensation Act | Failure to report termination of payments | 20 CFR 702.236 |  | $356 |  | $365.
OWCP | Longshore and Harbor Workers' Compensation Act | Discrimination against employees who claim compensation or testify in a LHWCA proceeding | 20 CFR 702.271(a)(2) | 2,922 | $14,608 | 2,998 | $14,988.
OWCP | Black Lung Benefits Act | Failure to report termination of payments | 20 CFR 725.621(d) |  | $1,780 |  | $1,826.
OWCP | Black Lung Benefits Act | Failure to secure payment of benefits for mines with fewer than 25 employees | 20 CFR 726.302(c)(2)(i) | 174 |  | 179
OWCP | Black Lung Benefits Act | Failure to secure payment of benefits for mines with 25-50 employees | 20 CFR 726.302(c)(2)(i) | 346 |  | 355
OWCP | Black Lung Benefits Act | Failure to secure payment of benefits for mines with 51-100 employees | 20 CFR 726.302(c)(2)(i) | 520 |  | 534
OWCP | Black Lung Benefits Act | Failure to secure payment of benefits for mines with more than 100 employees | 20 CFR 726.302(c)(2)(i) | 692 |  | 710
OWCP | Black Lung Benefits Act | Failure to secure payment of benefits after 10th day of notice | 20 CFR 726.302(c)(4) | 174 |  | 179
OWCP | Black Lung Benefits Act | Failure to secure payment of benefits for repeat offenders | 20 CFR 726.302(c)(5) | 520 |  | 534
OWCP | Black Lung Benefits Act | Failure to secure payment of benefits, maximum daily base penalty amount | 20 CFR 726.302(c)(6) |  | $3,558 |  | $3,650.

[FR Doc. 2024-31602 Filed 1-8-25; 8:45 am]

BILLING CODE 4510-HL-P